DEPARTMENT OF COMMERCE

National Oceanic and Atmospheric Administration

RIN 0648-XE817

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of public meeting.

SUMMARY: The SEDAR Steering Committee will meet to discuss the SEDAR process and assessment schedule. See SUPPLEMENTARY INFORMATION.

DATES: The SEDAR Steering Committee will meet from 1 p.m. on Tuesday, September 20, until 4 p.m. on Wednesday, September 21, 2016.

ADDRESSES:

Meeting address: The Steering Committee meeting will be held at the Town and Country Inn, 2008 Savannah Highway, Charleston, SC 29407; telephone: (843) 571-1000.

SEDAR address: South Atlantic Fishery Management Council, 4055 Faber Place Drive, Suite 201, N. Charleston, SC 29405; www.sedarweb.org.

FOR FURTHER INFORMATION CONTACT: John Carmichael, Deputy Executive Director, 4055 Faber Place Drive, Suite 201, North Charleston, SC 29405; phone: (843) 571-4366 or toll free: (866) SAFMC-10; fax: (843) 769-4520; email: john.carmichael@safmc.net.

SUPPLEMENTARY INFORMATION: The items of discussion are as follows:

SEDAR Steering Committee Agenda, Tuesday, September 20, 2016, 1 p.m.-5 p.m. and Wednesday, September 21, 2016, 8:30 a.m.-4 p.m.

1. Review Assessment Projects Status Reports

2. Consider the Research Track Assessment Process and Changes in the SEDAR Standard Operating Procedures and Policies (SOPPs).

3. Review State-Sponsored Assessment Process: Goliath Grouper Benchmark Case Study

4. Address the SEDAR Assessment Schedule: Identify assessment capability, determine 2018 priorities and identify projects for 2019-20.

5. Review Data Best Practices Terms of References (TORs) and Charge statement.

6. Progress Report on the Stock Identification and Meristics workshop: Timing, TORs, and stocks list.

7. Update on the NOAA Fisheries Stock Assessment Prioritization Plan: Cooperator progress and SEDAR role.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: August 30, 2016.
Tracey L. Thompson,
Acting Deputy Director, Office of Sustainable Fisheries, National Marine Fisheries Service.

[FR Doc. 2016-21187 Filed 9-1-16; 8:45 am]

BILLING CODE 3510-22-P